DEPARTMENT OF TRANSPORTATION

Federal Highway Administration

Supplemental Environmental Impact Statement: Linn County, Iowa

AGENCY: Federal Highway Administration (FHWA), DOT.

ACTION: Notice of Intent.

SUMMARY: The FHWA is issuing this notice to advise the public that a supplemental environmental impact statement will be prepared for a proposed roadway and bridge project at Cedar Rapids in Linn County, Iowa.

FOR FURTHER INFORMATION CONTACT: Philip Taylor, Assistant Transportation Engineer, Federal Highway Administration, Iowa Division Office, 105 6th Street, Ames, Iowa 50010, Telephone: (515) 233-7307. Harry S. Budd, Director, Office of Project Planning, Iowa Department of Transportation, 800 Lincoln Way, Ames, Iowa 50010, Telephone: (515) 239-1391.

SUPPLEMENTARY INFORMATION:

Electronic Access

An electronic copy of this document may be downloaded using a modem and suitable communications software from the Government Printing Office's Electronic Bulletin Board Service at (202) 512-1661. Internet users may reach the Federal Register's home page at: http://www.nara.gov/fedreg and the Government Printing Office's database at: http://www.access.gpo.gov/nara

Background

The FHWA, in cooperation with the Iowa Department of Transportation (Iowa DOT), will prepare a supplement to the environmental impact statement (FHWA-Iowa-EIS-78-4-DS) for the proposed construction of the extension of Iowa 100 around Cedar Rapids. The proposed project begins at U.S. 30 west of Cedar Rapids and extends north and northeast to existing Iowa 100 at Edgewood Road. The supplement to the environmental impact statement will evaluate a proposed four-lane, controlled access roadway connected by a bridge across the Cedar River. Total length of the proposed project is approximately 12.9 km (8.0 mile).

The proposed project is considered necessary to complete the highway loop around Cedar Rapids and alleviate congestion on several major arterial highways. It is also needed to reduce traffic congestion on Interstate-380 and other major arterials, provide another more northern river crossing for truck traffic, reduce transportation costs and social environmental impacts elsewhere in Cedar Rapids, and enhance economic development.

The environmental impact statement (FHWA-Iowa-EIS-78-4-F) was approved October 6, 1980. A supplement to the 1980 EIS is being prepared to examine new information and changes that were not addressed in the 1980 EIS.

Letters describing the proposed action and soliciting comments will be sent to appropriate Federal, State, and local agencies, and to private organizations and citizens who have previously expressed or are known to have interest in this proposal. Public involvement will be sought throughout the analysis of this proposal. In addition, a public hearing will be offered. A scoping meeting with interested public agencies was held September 15, 1999, to identify significant environmental issues that should be addressed. The participating agencies will be kept informed of any significant changes in the scope of the environmental analysis. Public notice will be given of the time and place of all public meetings. The draft supplemental environmental impact statement will be available for public and agency review prior to the public hearing.

To ensure that the full range of issues related to this proposed action are addressed and all significant issues identified, comments and suggestions are invited from all interested parties. Comments and questions concerning this proposed action and the supplement to the EIS should be directed to the FHWA or Iowa DOT at the addresses provided under the caption FOR FURTHER INFORMATION CONTACT.

(Catalog of Federal Domestic Assistance Program Number 20.205, Highway Planning and Construction. The regulation implementing Executive Order 12372 regarding intergovernmental consultation of Federal programs and activities apply to this program.)

Authority: 23 U.S.C. 315; 49 CFR 1.48.

Dated: January 31, 2000.
Bobby W. Blackmon,
Division Administrator.

[FR Doc. 00-2614 Filed 2-4-00; 8:45 am]

BILLING CODE 4910-22-P